DEPARTMENT OF ENERGY

Federal Energy Regulatory Commission

Combined Notice of Filings #1

Take notice that the Commission received the following electric corporate filings:

Docket Numbers: EC24-37-000.

Applicants: Deriva Energy Parent, LLC on behalf of its Public Utility Subsidiaries.

Description: Application for Authorization Under Section 203 of the Federal Power Act of Deriva Energy Parent, LLC.

Filed Date: 1/10/24.

Accession Number: 20240110-5201.

Comment Date: 5 p.m. ET 1/31/24.

Docket Numbers: EC24-38-000.

Applicants: Nestlewood Solar I LLC.

Description: Application for Authorization Under Section 203 of the Federal Power Act of Nestlewood Solar I LLC.

Filed Date: 1/10/24.

Accession Number: 20240110-5202.

Comment Date: 5 p.m. ET 1/31/24.

Take notice that the Commission received the following exempt wholesale generator filings:

Docket Numbers: EG24-75-000.

Applicants: RB Inyokern Solar WDAT 1203 LLC.

Description: RB Inyokern Solar WDAT 1203 LLC submits Notice of Self-Certification of Exempt Wholesale Generator Status.

Filed Date: 1/11/24.

Accession Number: 20240111-5037.

Comment Date: 5 p.m. ET 2/1/24.

Docket Numbers: EG24-76-000.

Applicants: RB Inyokern Solar WDAT 1281 LLC.

Description: RB Inyokern Solar WDAT 1281 LLC submits Notice of Self-Certification of Exempt Wholesale Generator Status.

Filed Date: 1/11/24.

Accession Number: 20240111-5038

Comment Date: 5 p.m. ET 2/1/24.

Docket Numbers: EG24-77-000.

Applicants: Kupono Solar, LLC.

Description: Kupono Solar, LLC submits Notice of Self-Certification of Exempt Wholesale Generator Status.

Filed Date: 1/11/24.

Accession Number: 20240111-5085.

Comment Date: 5 p.m. ET 2/1/24.

Docket Numbers: EG24-78-000.

Applicants: Sunlight Road Solar, L.L.C.

Description: Sunlight Road Solar, L.L.C. submits Notice of Self-Certification of Exempt Wholesale Generator Status.

Filed Date: 1/11/24.

Accession Number: 20240111-5156.

Comment Date: 5 p.m. ET 2/1/24.

Take notice that the Commission received the following electric rate filings:

Docket Numbers: ER24-110-001.

Applicants: Alabama Power Company, Georgia Power Company, Mississippi Power Company.

Description: Tariff Amendment: Alabama Power Company submits tariff filing per 35.17(b): Satilla Source Energy LGIA Deficiency Response to be effective 10/1/2023.

Filed Date: 1/11/24.

Accession Number: 20240111-5104.

Comment Date: 5 p.m. ET 2/1/24.

Docket Numbers: ER24-705-001.

Applicants: Bazinga, LLC.

Description: Tariff Amendment: Amendment to 1 to be effective 12/20/2023.

Filed Date: 1/11/24.

Accession Number: 20240111-5076.

Comment Date: 5 p.m. ET 2/1/24.

Docket Numbers: ER24-847-000.

Applicants: Sunlight Road Solar, L.L.C.

Description: Baseline eTariff Filing: Application for Market-Based Rate Authority to be effective 3/12/2024.

Filed Date: 1/11/24.

Accession Number: 20240111-5036.

Comment Date: 5 p.m. ET 2/1/24.

Docket Numbers: ER24-848-000.

Applicants: Sunlight Road Solar, L.L.C.

Description: Initial rate filing: Filing of Shared Facilities Agreement and Request for Waivers to be effective 3/12/2024.

Filed Date: 1/11/24.

Accession Number: 20240111-5040.

Comment Date: 5 p.m. ET 2/1/24.

Docket Numbers: ER24-849-000.

Applicants: Iris Solar, LLC.

Description: Initial rate filing: Filing of Shared Facilities Agreement and Request for Waivers to be effective 3/12/2024.

Filed Date: 1/11/24.

Accession Number: 20240111-5041.

Comment Date: 5 p.m. ET 2/1/24.

Docket Numbers: ER24-850-000.

Applicants: NorthWestern Corporation.

Description: § 205(d) Rate Filing: RS 325 1st Amendment to Amended and Restated LGIA to be effective 12/22/2023.

Filed Date: 1/11/24.

Accession Number: 20240111-5049.

Comment Date: 5 p.m. ET 2/1/24.

Docket Numbers: ER24-851-000.

Applicants: PacifiCorp.

Description: § 205(d) Rate Filing: Amendments to MBR Tariff to Facilitate Western Resource Adequacy Program to be effective 3/12/2024.

Filed Date: 1/11/24.

Accession Number: 20240111-5078.

Comment Date: 5 p.m. ET 2/1/24.

Docket Numbers: ER24-852-000.

Applicants: PJM Interconnection, L.L.C.

Description: Tariff Amendment: Cancellation of WMPA, SA No. 6318; Queue No. AG2-395 to be effective 3/12/2024.

Filed Date: 1/11/24.

Accession Number: 20240111-5082.

Comment Date: 5 p.m. ET 2/1/24.

Docket Numbers: ER24-853-000.

Applicants: Duke Energy Ohio, Inc., Duke Energy Kentucky, Inc., Interconnection, L.L.C.

Description: § 205(d) Rate Filing: Duke Energy Ohio, Inc. submits tariff filing per 35.13(a)(2)(iii: DEOK submits revisions to OATT Att. H-22A Depreciation Rates to be effective 10/15/2023.

Filed Date: 1/11/24.

Accession Number: 20240111-5086.

Comment Date: 5 p.m. ET 2/1/24.

Docket Numbers: ER24-854-000.

Applicants: Midcontinent Independent System Operator, Inc., American Transmission Company LLC.

Description: § 205(d) Rate Filing: Midcontinent Independent System Operator, Inc. submits tariff filing per 35.13(a)(2)(iii: 2024-01-11_SA 4224 ATC-WPSC PCA (Winnebago) to be effective 3/12/2024.

Filed Date: 1/11/24.

Accession Number: 20240111-5095.

Comment Date: 5 p.m. ET 2/1/24.

Docket Numbers: ER24-855-000.

Applicants: PJM Interconnection, L.L.C.

Description: § 205(d) Rate Filing: Original NSA, SA No. 7154; Queue No. AE2-054 to be effective 3/12/2024.

Filed Date: 1/11/24.

Accession Number: 20240111-5099.

Comment Date: 5 p.m. ET 2/1/24.

Docket Numbers: ER24-856-000.

Applicants: Nevada Power Company.

Description: § 205(d) Rate Filing: NPC MBR Amendments to Facilitate WRAP to be effective 3/12/2024.

Filed Date: 1/11/24.

Accession Number: 20240111-5101.

Comment Date: 5 p.m. ET 2/1/24.

Docket Numbers: ER24-857-000.

Applicants: Sierra Pacific Power Company.

Description: § 205(d) Rate Filing: SPPC MBR Amendment to Facilitate WRAP to be effective 1/12/2024.

Filed Date: 1/11/24.

Accession Number: 20240111-5103.

Comment Date: 5 p.m. ET 2/1/24.

Docket Numbers: ER24-858-000.

Applicants: PacifiCorp.

Description: Tariff Amendment: Termination of UAMPS Const Agmt St. George POTT to be effective 3/13/2024.

Filed Date: 1/11/24.

Accession Number: 20240111-5105.

Comment Date: 5 p.m. ET 2/1/24.

Docket Numbers: ER24-859-000.

Applicants: PJM Interconnection, L.L.C.

Description: § 205(d) Rate Filing: Amendment to ISA, SA No. 5561; Queue No. AC1-043/AD1-115 (amend) to be effective 3/12/2024.

Filed Date: 1/11/24.

Accession Number: 20240111-5117.

Comment Date: 5 p.m. ET 2/1/24.

Docket Numbers: ER24-860-000.

Applicants: PJM Interconnection, L.L.C.

Description: Tariff Amendment: Cancellation of WMPA, Service Agreement No. 6322; Queue No. AG2-394 to be effective 3/12/2024.

Filed Date: 1/11/24.

Accession Number: 20240111-5135.

Comment Date: 5 p.m. ET 2/1/24.

Docket Numbers: ER24-861-000.

Applicants: PJM Interconnection, L.L.C.

Description: § 205(d) Rate Filing: Amendment to ISA, SA No. 4827; Queue No. AC1-010 to be effective 3/12/2024.

Filed Date: 1/11/24.

Accession Number: 20240111-5152.

Comment Date: 5 p.m. ET 2/1/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 11, 2024.
Debbie-Anne A. Reese,
Acting Secretary.

[FR Doc. 2024-00880 Filed 1-17-24; 8:45 am]

BILLING CODE 6717-01-P